POSTAL SERVICE

Addition of “Gift Cards” Price Category to the Competitive Product List

AGENCY: Postal Service™.

ACTION: Notice.

SUMMARY: The Postal Service hereby provides notice that it has filed a request with the Postal Regulatory Commission to add “Gift Cards” to the competitive product list as a price category under the “Greeting Cards and Stationery” product.

DATES: Effective date: July 7, 2014.

FOR FURTHER INFORMATION CONTACT: John F. Rosato, 202-268-8597.

SUPPLEMENTARY INFORMATION: On June 9, 2014, the United States Postal Service® filed with the Postal Regulatory Commission a request to add a “Gift Cards” price category to the Greeting Cards and Stationary product listed in the Mail Classification Schedule's Competitive Product List. As part of this filing the Postal Service is also requesting that the name of the Greeting Cards and Stationary product be changed to “Greeting Cards, Gift Cards, and Stationary.” Documents pertinent to this request are available at http://www.prc.gov, Docket No. MC2014—26.

Stanley F. Mires,
Attorney, Legal Policy & Legislative Advice.

[FR Doc. 2014-15730 Filed 7-3-14; 8:45 am]

BILLING CODE 7710-12-P